NATIONAL SCIENCE FOUNDATION

Notice of Intent To Seek Approval To Establish an Information Collection

AGENCY: National Science Foundation.

ACTION: Notice and request for comments.

SUMMARY: Under the Paperwork Reduction Act of 1995, Public Law 104-13 (44 U.S.C. 3501 et seq.), and as part of its continuing effort to reduce paperwork and respondent burden, the National Science Foundation (NSF) is inviting the general public or other Federal agencies to comment on this proposed continuing information collection. The NSF will publish periodic summaries of the proposed projects.

COMMENTS: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by October 15, 2012, to be assured consideration. Comments received after that date will be considered to the extent practicable. Send comments to address below.

FOR FURTHER INFORMATION CONTACT: Ms. Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title of Collection: Engineering Research Center's Diversity Climate Survey.

OMB Number: 3145-NEW.

Expiration Date of Approval: Not applicable.

Type of Request: Intent to seek approval to establish an information collection.

Abstract:

Proposed Project: We would like to use Survey Monkey to administer a diversity climate survey to the 17, active NSF Engineering Research Centers. This survey will have a mix of rating and open-ended questions. Our goal is to gain an understanding of the climate of diversity within the ERCs.

Need and Use of Information Collection: The NSF ERCs were established in 1985 with one of the goals being the development of a diverse, globally competitive engineering workforce. The ERCs provide information regarding diversity in the Centers through 10-year diversity strategic plans and annual reporting that includes demographic data. However, beyond the numbers, NSF does not have a good understanding of the culture for diversity inside these centers and how it impacts faculty, students and their success. This information will enable NSF to have an unprecedented perspective of ERC diversity culture. From this knowledge, a benchmark for progress towards creating a path of equity in engineering for women, and especially for racial/ethnic minorities and persons with disabilities can be established starting with the culture of the centers. Also, with a better understanding of the diversity efforts and diversity culture within the ERCs, the information will enable us to assess, refine, and improve diversity efforts. We want the ERCs to be inclusive environments for all. This diversity climate survey will enable us to evaluate how close we are to that goal.

Estimate of the Burden: This survey will have 20 respondents (1 representative from each current center plus 3 new centers that will be established by the time of survey). The survey should take no more than 30 minutes to complete. This yields a burden time of 600 minutes or 10 hours.

Respondents: Individuals; not-for-profit institutions.

Estimated Number of Responses per survey: One.

Dated: August 8, 2012.
Suzanne H. Plimpton,
Reports Clearance Officer, National Science Foundation.

[FR Doc. 2012-19847 Filed 8-13-12; 8:45 am]

BILLING CODE 7555-01-P